DEPARTMENT OF COMMERCE

Bureau of Industry and Security

15 CFR Part 744

[Docket No. 190130021-9021-01]

RIN 0694-AH73

Revisions to the Unverified List (UVL)

AGENCY: Bureau of Industry and Security, Commerce.

ACTION: Final rule.

SUMMARY: The Bureau of Industry and Security (BIS) is amending the Export Administration Regulations (EAR) by adding fifty (50) persons to the Unverified List (“UVL”), removing ten (10) persons, and adding an additional address for one (1) person currently listed on the UVL. The fifty persons are added to the UVL on the basis that BIS could not verify their bona fides because an end-use check could not be completed satisfactorily for reasons outside the U.S. Government's control. BIS is adding a new address for one person as BIS has determined that this person is receiving exports from the United States at an additional address.

DATES: This rule is effective: April 11, 2019.

FOR FURTHER INFORMATION CONTACT: Kevin Kurland, Director, Office of Enforcement Analysis, Bureau of Industry and Security, Department of Commerce, Phone: (202) 482-4255 or by email at UVLRequest@bis.doc.gov.

SUPPLEMENTARY INFORMATION:

Background

The Unverified List, found in Supplement No. 6 to Part 744 to the EAR, contains the names and addresses of foreign persons who are or have been parties to a transaction, as that such parties are described in § 748.5 of the EAR, involving the export, reexport, or transfer (in-country) of items subject to the EAR, and whose bona fides (i.e., legitimacy and reliability relating to the end use and end user of items subject to the EAR) BIS has been unable to verify through an end-use check. BIS may add persons to the UVL when BIS or federal officials acting on BIS's behalf have been unable to verify a foreign person's bona fides because an end-use check, such as a pre-license check (PLC) or a post-shipment verification (PSV), cannot be completed satisfactorily for such purposes for reasons outside the U.S. Government's control.

There are occasions where, for a number of reasons, end-use checks cannot be completed. These include reasons unrelated to the cooperation of the foreign party subject to the end-use check. For example, BIS sometimes initiates end-use checks and cannot find a foreign party at the address indicated on export documents and cannot locate the party by telephone or email. Additionally, BIS sometimes is unable to conduct end-use checks when host government agencies do not respond to requests to conduct end-use checks, are prevented from scheduling such checks by a party to the transaction other than the foreign party that is the proposed subject of the end-use check, or refuse to schedule them in a timely manner. Under these circumstances, although BIS has an interest in informing the public of its inability to verify the foreign party's bona fides, there may not be sufficient information to add the foreign person at issue to the Entity List under § 744.11 of the EAR (Criteria for revising the Entity List). In such circumstances, BIS may add the foreign person to the UVL.

Furthermore, BIS sometimes conducts end-use checks but cannot verify the bona fides of a foreign party. For example, BIS may be unable to verify bona fides if during the conduct of an end-use check a recipient of items subject to the EAR is unable to produce those items for visual inspection or provide sufficient documentation or other evidence to confirm the disposition of those items. The inability of foreign persons subject to end-use checks to demonstrate their bona fides raises concerns about the suitability of such persons as participants in future exports, reexports, or transfers (in-country) of items subject to the EAR and indicates a risk that such items may be diverted to prohibited end uses and/or end users. However, BIS may not have sufficient information to establish that such persons are involved in activities described in parts 744 or 746 of the EAR, preventing the placement of the persons on the Entity List. In such circumstances, the foreign persons may be added to the Unverified List.

As provided in § 740.2(a)(17) of the EAR, the use of license exceptions for exports, reexports, and transfers (in-country) involving a party or parties to the transaction who are listed on the UVL is suspended. Additionally, under § 744.15(b) of the EAR, there is a requirement for exporters, reexporters, and transferors to obtain (and keep a record of) a UVL statement from a party or parties to the transaction who are listed on the UVL before proceeding with exports, reexports, and transfers (in-country) to such persons, when the exports, reexports and transfers (in-country) are not subject to a license requirement.

Requests for removal of a UVL entry must be made in accordance with § 744.15(d) of the EAR. Decisions regarding the removal or modification of UVL listings will be made by the Deputy Assistant Secretary for Export Enforcement, based on a demonstration by the listed person of its bona fides.

Changes to the EAR

Supplement No. 6 to Part 744 (“the Unverified List” or “UVL”)

This rule adds fifty (50) persons to the UVL by amending Supplement No. 6 to Part 744 of the EAR to include their names and addresses. BIS adds these persons in accordance with the criteria for revising the UVL set forth in § 744.15(c) of the EAR. The new entries consist of thirty-seven persons located in China, six in Hong Kong, four in the United Arab Emirates, two in Malaysia, and one in Indonesia. Each listing is grouped within the UVL by country with each party's name(s) listed in alphabetical order under the country; each entry includes available alias(es) and address(es), as well as the Federal Register citation and the date the person was added to the UVL. The UVL is included in the Consolidated Screening List, available at www.export.gov.

This rule also adds one additional address for one person currently listed on the UVL, Ling Ao Electronic Technology Co. Ltd, a.k.a. Voyage Technology (HK) Co., Ltd., a.k.a. Xuan Qi Technology Co. Ltd., as BIS has determined that this person is receiving exports from the United States at an additional address. Further, this rule fixes minor typographical errors in two of the existing addresses for the same company.

Finally, this rule removes ten persons from the UVL. BIS is removing these persons pursuant to information received by BIS pursuant to § 744.15(d) of the EAR and further review conducted by BIS. This final rule implements the decision to remove the following three persons located in China, one person located in Finland, five persons located in Russia, and one person located in the United Arab Emirates from the UVL:

China

(1) Jiujiang Jinxin Nonferrous Metals Co., Ltd., Xunyang Chem. Bldg., Materials Factory, Xunyang District, Jiujiang City, China,

(2) Liupanshui Normal University, 19 Minhu Road, Zhongshan District, Liupanshui, Guizhou, 553004, China, and

(3) Yantai Salvage Bureau, No. 100 Zhifudao East Road, Zhifu District, Yantai, Shandong, 264012, China

Finland

(1) Net Logistics JVM OY, a.k.a. Net Logistic JVM OY, Eskolantie 1, Helsinki, Finland, 00720 and Merituulentie 486, Port Mussalo, Kotka, Finland 48310

Russia

(1) Eltech Ltd., 3A, pl. Konstitutsii, Saint Petersburg 196247, Russia,

(2) MT Systems, Kalinina Street 13, Saint Petersburg 198099, Russia,

(3) Romona Inc., Prospekt Mira 426, Yuzhno-Sakhalinsk 693004, Russia,

(4) Sakhalin Energy Investment Company Ltd., Dzerzhinskogo Street 35, Yuzhno-Sakhalinsk 693020, Russia, and

(5) SIC Dipaul, Bolshaya Monetnaya Street 16, Saint Petersburg 197101, Russia, and 5B, Rentgena ul., Saint Petersburg 197101, Russia

United Arab Emirates

(1) GenX Middle East FZE, a.k.a. GenX Systems LLC, #510-511 Le Solarium Building, Dubai Silicon Oasis, Dubai, UAE, and P.O. Box 121225, Office M07, Al Zahra, Khaleed Bin Al Waleed Road, Bur Dubai, Dubai, UAE.

Savings Clause

Shipments (1) removed from license exception eligibility or that are now subject to requirements in § 744.15 of the EAR as a result of this regulatory action; (2) eligible for export, reexport, or transfer (in-country) without a license before this regulatory action; and (3) on dock for loading, on lighter, laden aboard an exporting carrier, or en route aboard a carrier to a port of export, on April 11, 2019, pursuant to actual orders, may proceed to that UVL listed person under the previous license exception eligibility or without a license so long as the items have been exported from the United States, reexported or transferred (in-country) before May 13, 2019. Any such items not actually exported, reexported or transferred (in-country) before midnight on May 13, 2019 are subject to the requirements in § 744.15 of the EAR in accordance with this regulation.

Export Control Reform Act of 2018

On August 13, 2018, the President signed into law the John S. McCain National Defense Authorization Act for Fiscal Year 2019, which included the Export Control Reform Act of 2018 (ECRA) (Title XVII, Subtitle B of Pub. L. 115-232) that provides the legal basis for BIS's principal authorities and serves as the authority under which BIS issues this rule. As set forth in Section 1768 of ECRA, all delegations, rules, regulations, orders, determinations, licenses, or other forms of administrative action that have been made, issued, conducted, or allowed to become effective under the Export Administration Act of 1979 (50 U.S.C. 4601 et seq.) (as in effect prior to August 13, 2018, and as continued in effect pursuant to the International Emergency Economic Powers Act (50 U.S.C. 1701 et seq.) and Executive Order 13222 of August 17, 2001, 3 CFR, 2001 Comp., p. 783 (2002), as amended by Executive Order 13637 of March 8, 2013, 78 FR 16129 (March 13, 2013), and as extended by the Notice of August 8, 2018, 83 FR 39871 (August 13, 2018)), or the Export Administration Regulations, and are in effect as of August 13, 2018, shall continue in effect according to their terms until modified, superseded, set aside, or revoked under the authority of ECRA.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has not been designated a “significant regulatory action,” under section 3(f) of Executive Order 12866. This rule is not an Executive Order 13771 regulatory action because this rule is not significant under Executive Order 12866.

2. Pursuant to Section 1762 of the Export Control Reform Act of 2018 (Title XVII, Subtitle B of Pub. L. 115-232), which was included in the John S. McCain National Defense Authorization Act for Fiscal Year 2019, this action is exempt from the Administrative Procedure Act (5 U.S.C. 553) requirements for notice of proposed rulemaking, opportunity for public participation and delay in effective date. The analytical requirements of the Regulatory Flexibility Act (5 U.S.C. 601 et. seq.) are not applicable because no general notice of proposed rulemaking was required for this action. Accordingly, no regulatory flexibility analysis is required, and none has been prepared.

3. Notwithstanding any other provision of law, no person is required to respond to, nor is subject to a penalty for failure to comply with, a collection of information, subject to the requirements of the Paperwork Reduction Act of 1995 (44 U.S.C. 3501 et seq.) (PRA), unless that collection of information displays a currently valid Office of Management and Budget (OMB) Control Number. This regulation involves collections previously approved by OMB under the following control numbers: 0694-0088, 0694-0122, 0694-0134, and 0694-0137.

This rule slightly increases public burden in a collection of information approved by OMB under control number 0694-0088, which authorizes, among other things, export license applications. The removal of license exceptions for listed persons on the Unverified List will result in increased license applications being submitted to BIS by exporters. Total burden hours associated with the Paperwork Reduction Act and OMB control number 0694-0088 are expected to increase minimally, as the suspension of license exceptions will only affect transactions involving persons listed on the Unverified List and not all export transactions. Because license exceptions are restricted from use, this rule decreases public burden in a collection of information approved by OMB under control number 0694-0137 minimally, as this will only affect specific individual listed persons. The increased burden under 0694-0088 is reciprocal to the decrease of burden under 0694-0137, and results in no change of burden to the public. This rule also increases public burden in a collection of information under OMB control number 0694-0122, as a result of the exchange of UVL statements between private parties, and under OMB control number 0694-0134, as a result of appeals from persons listed on the UVL for removal of their listing. The total increase in burden hours associated with both of these collections is expected to be minimal, as they involve a limited number of persons listed on the UVL.

4. This rule does not contain policies with Federalism implications as that term is defined in Executive Order 13132.

List of Subjects in 15 CFR Part 744

Exports, Reporting and recordkeeping requirements, Terrorism.

Accordingly, part 744 of the Export Administration Regulations (15 CFR parts 730 through 774) is amended as follows:

PART 744—[AMENDED]

1. The authority citation for part 744 is revised to read as follows:

Authority: Pub. L. 115-232, Title XVII, Subtitle B. 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 8, 2018, 83 FR 39871 (August 13, 2018); Notice of September 19, 2018, 83 FR 47799 (September 20, 2018); Notice of November 8, 2018, 83 FR 56253 (November 9, 2019); Notice of January 16, 2019, 84 FR 127 (January 18, 2019).

2. Supplement No. 6 to Part 744 is amended by:

a. Adding thirty-seven entries, in alphabetical order, under “China”;

b. Removing the entry for “Jiujiang Jinxin Nonferrous Metals Co, Ltd.” under “China”;

c. Removing the entry for “Liupanshui Normal University” under “China”;

d. Removing the entry for “Yantai Salvage Bureau” under “China”;

e. Removing the entry for “Net Logistics JVM OY, a.k.a. Net Logistic JVM OY” under “Finland”;

f. Adding six entries, in alphabetical order, under “Hong Kong”;

g. Revising the entry for “Ling Ao Electronic Technology Co. Ltd., a.k.a. Voyage Technology (HK) Co., Ltd., a.k.a. Xuan Qi Technology Co. Ltd.” under “Hong Kong”;

h. Adding an entry in alphabetical order for “Indonesia;

i. Adding an entry in alphabetical order for “Malaysia”;

j. Removing the entry for “Eltech Ltd.” under “Russia”;

k. Removing the entry for “MT Systems” under “Russia”;

l. Removing the entry for “Romona Inc.” under “Russia”;

m. Removing the entry for “Sakhalin Energy Investment Company Ltd.” under “Russia”;

n. Removing the entry for “SIC Dipaul” under “Russia”;

o. Adding four entries, in alphabetical order, under “United Arab Emirates”; and

p. Removing the entry for “GenX Middle East FZE, a.k.a. GenX Systems LLC” under the “United Arab Emirates”.

The additions and revision read as follows:

Supplement No. 6 to Part 744—Unverified List

Country | Listed person and address | Federal Register citation and date of publication
* * * * * * *
CHINA | Aisin Nantong Technical Center, No 11 Chen Yang Road, Nantong Development Zone, Nantong, China | 84 FR [INSERT FEDERAL REGISTER PAGE NUMBER] 4/11/2019.
| Anhui Institute of Metrology, No. 13, Yanan Road, Baohe Industrial Development District, Hefei, China 230051 | 84 FR [INSERT FEDERAL REGISTER PAGE NUMBER] 4/11/2019.
* * * * * * *
| Beijing Bayi Space LCD Materials Technology Co., Ltd, Dongfeng Rd, Yanshan, Beijing, China | 84 FR [INSERT FEDERAL REGISTER PAGE NUMBER] 4/11/2019.
| Beijing Institute of Nanoenergy and Technology, 30 Xue YuanLu HaiDianQu, Beijing, China 100083 | 84 FR [INSERT FEDERAL REGISTER PAGE NUMBER] 4/11/2019.
| Center for High Pressure Science and Technology Advanced Research, 1690 Cailun Rd, Bldg #6, Pudong, Shanghai, China 201203 | 84 FR [INSERT FEDERAL REGISTER PAGE NUMBER] 4/11/2019.
| Changchun Institute of Applied Chemistry, Chinese Academy of Sciences, 5625 Renmin Street, Changchun City, China 130022 | 84 FR [INSERT FEDERAL REGISTER PAGE NUMBER] 4/11/2019.
| Changchun National Extreme Precision Optics Co Ltd, No. 3608 Dong Nanhu Road, Jilin Province, Changchun, China 130000 | 84 FR [INSERT FEDERAL REGISTER PAGE NUMBER] 4/11/2019.
* * * * * * *
| Chengde Oscillator Electronic Technology Co., #17 Siheyuan Village, Pingquan Town, Pingquan City, Hebei Province, Chengde City, China 067506 | 84 FR [INSERT FEDERAL REGISTER PAGE NUMBER] 4/11/2019.
* * * * * * *
| Guangdong University of Technology, No 100 Waihuan Xi Road, Guangzhou Higher Education Mega Ctr, Guangzhou, China 510006 | 84 FR [INSERT FEDERAL REGISTER PAGE NUMBER] 4/11/2019.
| Gucheng Xian Fengxin Titanium Alloy, Xiyuan Industrial District, Gucheng County, Hebei Province, Hengshui City, China 253800 | 84 FR [INSERT FEDERAL REGISTER PAGE NUMBER] 4/11/2019.
| Hefei Institutes of Physical Science, Chinese Academy of Sciences, No. 350, Shushanhu Rd, Shushan District, Hefei City, China 230031 | 84 FR [INSERT FEDERAL REGISTER PAGE NUMBER] 4/11/2019.
| Huaduan (Anhui) Machine Tool Manufacturer Co., Chaoyang Rd #888, Dongguan Development, Si Town, Anhui Province, Suzhou, China | 84 FR [INSERT FEDERAL REGISTER PAGE NUMBER] 4/11/2019.
| Hubei Flying Optical, No 1, Changfei Avenue, Yanhua, Industrial Park, Jianghan Oil Field, Qianjiang, China | 84 FR [INSERT FEDERAL REGISTER PAGE NUMBER] 4/11/2019.
* * * * * * *
| Luoyang Weimi Optics, No. 18 Lingbo Road, New & High Tech Industry Development Zone, Luoyang, China 471000 | 84 FR [INSERT FEDERAL REGISTER PAGE NUMBER] 4/11/2019.
* * * * * * *
| Ningbo Zhongxian Optoelectronic Technology Co, Ltd., Floor 11 Technology Innovation Center, No. 1188 Binhai 2nd Road, Hangzhou Bay New District, Ningbo, Zhejiang, China 315336 | 84 FR [INSERT FEDERAL REGISTER PAGE NUMBER] 4/11/2019.
| Renmin University, No. 59 Zhongguancun Street, Haidian District, Beijing, China 100872 | 84 FR [INSERT FEDERAL REGISTER PAGE NUMBER] 4/11/2019.
| Shaanxi Hongyuan Aviation Forging, Building Hongyuan Street, Luqiao Town, Shaanxi, China 713801 | 84 FR [INSERT FEDERAL REGISTER PAGE NUMBER] 4/11/2019.
| Shanghai Institute of Applied Physics, Chinese Academy of Sciences, 239 Zhangheng Road, Pudong District, Shanghai, China | 84 FR [INSERT FEDERAL REGISTER PAGE NUMBER] 4/11/2019.
| Shanghai Institute of Technical Physics, Chinese Academy of Sciences, 500 Yu Tian Road, Shanghai, China 200083 | 84 FR [INSERT FEDERAL REGISTER PAGE NUMBER] 4/11/2019.
| Shanghai SKEQI Automation Engineering Co., Bldg 8, No. 650 Guanghua Road, Songjiang District, Shanghai, China | 84 FR [INSERT FEDERAL REGISTER PAGE NUMBER] 4/11/2019.
* * * * * * *
| Shi Jia Zhuang Suin Instruments, A-2 No. 99 Yuyuan Road, LuQuan District, Shijiazhuang, China 050000 | 84 FR [INSERT FEDERAL REGISTER PAGE NUMBER] 4/11/2019.
* * * * * * *
| Sunder Tools (Changxing) Technology, Zhongtie Avenue Huaxi Industrial Area, Changxing County, Huzhou, Zhejiang Province, China 313100 | 84 FR [INSERT FEDERAL REGISTER PAGE NUMBER] 4/11/2019.
| Termei Torch & Tip Company, No. 9 Huanbao 3rd Road, Xinbei District, Changzhou, Jiangsu, China 213034 | 84 FR [INSERT FEDERAL REGISTER PAGE NUMBER] 4/11/2019.
| Tongji University, 1239 Siping Road, Shanghai, China 200092 | 84 FR [INSERT FEDERAL REGISTER PAGE NUMBER] 4/11/2019.
| TRI Microsystems, Rm 2806, Building A, Rongchao Yinglong Mansion, No. 5 Longfu Road, Longchen Street, Longgang District, Shenzhen, China | 84 FR [INSERT FEDERAL REGISTER PAGE NUMBER] 4/11/2019.
| Wuhan Yifi Laser Equipment Co., Dingxin Industry Park, Jiayuan Road, Optics Valley, Hubei, Wuhan, China 430074 | 84 FR [INSERT FEDERAL REGISTER PAGE NUMBER] 4/11/2019.
| Wuxi Beetech Inc., No. 58 4th Floor Feihong Road, Nanhu, Wuxi, China | 84 FR [INSERT FEDERAL REGISTER PAGE NUMBER] 4/11/2019.
| Wuxi Hengling Technology Co. Ltd., Bldg C1, No. 999 East Gaolang Rd., Binhu District, Jiangsu Province, Wuxi City, China 214131 | 84 FR [INSERT FEDERAL REGISTER PAGE NUMBER] 4/11/2019.
| Xiamen Sanan Optoelectronics, Luling Road 1721-1725#, Ximing, Xiamen, China 361008 | 84 FR [INSERT FEDERAL REGISTER PAGE NUMBER] 4/11/2019.
| Xi'an Caijing Opto-Electronics, Science & Technology Co., Ltd, No. 168, East Zhangba Road, Shaanxi Province, Xi'an City, China | 84 FR [INSERT FEDERAL REGISTER PAGE NUMBER] 4/11/2019.
| Xi'an Micromach Photon Manufacture Technology, No. 60 Western Road, New High Tech Park, Xi'an, China 710000 | 84 FR [INSERT FEDERAL REGISTER PAGE NUMBER] 4/11/2019.
| Xi'an Jiaotong University, School of Electrical Engineering, No. 28 Xianning West Road, Xi'an, Shaanxi, China 710049 | 84 FR [INSERT FEDERAL REGISTER PAGE NUMBER] 4/11/2019.
| Xi'an Jiaotong University, No. 99 Yanxiang Road, Qujiang, Xi'an, China 71000 | 84 FR [INSERT FEDERAL REGISTER PAGE NUMBER] 4/11/2019.
* * * * * * *
| Yunnan Observatories, Chinese Academy of Sciences (CAS), No. 396 Yangfangwang, Kunming, Yunnan, China 650216 | 84 FR [INSERT FEDERAL REGISTER PAGE NUMBER] 4/11/2019.
| Zhejiang Xizi Aviation, No. 277 Xinken Road, Qianjin, Technological Development Area, Zhejiang, China 311222 | 84 FR [INSERT FEDERAL REGISTER PAGE NUMBER] 4/11/2019.
| Zhongshan Thincloud Optics Co. Ltd., 8 KA, Building A, No. 5 Kuxing Road, Sanjiao Town, Zhongshan, China 528445 | 84 FR [INSERT FEDERAL REGISTER PAGE NUMBER] 4/11/2019.
| Zolix Instruments Co., LDUV 68B, No. 16 Huanke Middle Rd, Tongzhou Zone, Tongzhou District, Beijing, China 101102 | 84 FR [INSERT FEDERAL REGISTER PAGE NUMBER] 4/11/2019.
* * * * * * *
HONG KONG | Able Supply Chain Limited, Rm 511, 5/F, Corporation Park, 1 On Lai Street, Sha Tin, New Territories, Hong Kong; and Rm 605, 6/F, Corporation Park, 1 On Lai Street, Sha Tin, New Territories, Hong Kong; and Unit C, 9/F, Winning House, No. 72-76 Wing Lok Street, Sheung Wan, Hong Kong | 84 FR [INSERT FEDERAL REGISTER PAGE NUMBER] 4/11/2019.
* * * * * * *
| Boson Technology Co., Limited., Unit 22, 10/F, Nan Fung Commercial Centre, 19 Lam Lok Street, Kowloon, Kwun Tong, Hong Kong; and Room 1907, 19/F, Lee Garden One, 33 Hysan Avenue, Causeway Bay, Hong Kong; and Room 1501 (462), 15/F., SPA Centre, 53-55 Lockhart Road, Wan Chai, Hong Kong | 84 FR [INSERT FEDERAL REGISTER PAGE NUMBER] 4/11/2019.
* * * * * * *
| HK Hengyu Storage Logistics Limited, Rm 2309, 23/F, Ho King Commercial Centre, 2-16 Fayuen St, Mongkok, Kwun Tong, Hong Kong; and Flat/Rm B10, 9/F, Mai Hing Factory Building, 16-18 Shing Yip Street, Kowloon, Kwun Tong, Hong Kong; and Flat/Rm B11, 12/F Mai Hing Factory Building, 16-18 Shing Yip Street, Kowloon, Kwun Tong, Hong Kong | 84 FR [INSERT FEDERAL REGISTER PAGE NUMBER] 4/11/2019.
* * * * * * *
| Ling Ao Electronic Technology Co. Ltd, a.k.a. Voyage Technology (HK) Co., Ltd., a.k.a. Xuan Qi Technology Co. Ltd, Room 17, 7/F, Metro Centre Phase 1, No. 32 Lam Hing St., Kowloon Bay, Kwun Tong, Hong Kong; and 15B, 15/F, Cheuk Nang Plaza, 250 Hennessy Road, Wan Chai, Hong Kong; and Flat C, 11/F, Block No. 2, Camelpaint Bldg., 62 Hoi Yuen Street, Kwun Tong, Kowloon, Hong Kong; and Room C1-D, 6/F, Wing Hing Industrial Building, 14 Hing Yip Street, Kwun Tong, Kowloon, Hong Kong; and Flat/Rm. A30, 9/F Silvercorp International Tower, 707-713 Nathan Road, Mongkok, Kowloon, Hong Kong; and Room 912A, 9/F. Witty Commercial Building, 1A-1L Tung Choi Street, Mongkok, Kowloon, Hong Kong; and Unit A, 7/F, King Yip Factory Bldg., 59 King Yip Street, Kwun Tong, Kowloon, Hong Kong; and Unit D, 16/F, One Capital Place, 18 Luard Road, Wan Chai, Hong Kong; and Unit B213, 1/F, New East Sun Industrial Bldg., 18 Shing Yip Street, Kowloon, Kwun Tong, Hong Kong | 80 FR 4779, 01/29/15., 80 FR 60532, 10/7/15., 82 FR 16733, 04/06/17., 83 FR 22845, 05/17/18., 84 FR [INSERT FEDERAL REGISTER PAGE NUMBER] 4/11/2019.
* * * * * * *
| Rising Logistics Company Limited, Workshop 12, 13/F, Block B, New Trade Plaza, No. 6, On Ping Street, Sha Tin, New Territories, Hong Kong; and Unit 208, 2/F, Block B, Hoi Luen Industrial Centre, 55 Hoi Yuen Road, Kowloon, Kwun Tong, Hong Kong; and Unit 1105, Hua Qin International Building, 340 Queens Road, Central, Hong Kong Island, Hong Kong | 84 FR [INSERT FEDERAL REGISTER PAGE NUMBER] 4/11/2019.
* * * * * * *
| Swelatel Technology Limited, Rm. 19C, Lockhart Ctr., 301-307 Lockhart Rd., Wan Chai, Hong Kong; and Rm. 2107, Lippo Centre Tower 2, 89 Queensway, Admiralty, Wan Chai, Hong Kong | 84 FR [INSERT FEDERAL REGISTER PAGE NUMBER] 4/11/2019.
* * * * * * *
| Universe Market Limited, Unit A, 17/F, Good Will Industrial Building, 36-44 Pak Tin Par Street, Tsuen Wan, New Territories, Hong Kong | 84 FR [INSERT FEDERAL REGISTER PAGE NUMBER] 4/11/2019.
* * * * * * *
INDONESIA | PetroChina International Jabung Ltd., Menara Kuningan, 25th Floor, JL. HR Rusuna, Said Block X-7, Kav. 5, Jakarta, Indonesia | 84 FR [INSERT FEDERAL REGISTER PAGE NUMBER] 4/11/2019.
* * * * * * *
MALAYSIA | Infomaya Tech Sdn Bhd, Level 2, Enterprise 5 Technology Park, Bukit Jalil 57000, Kuala Lumpur, Malaysia | 84 FR [INSERT FEDERAL REGISTER PAGE NUMBER] 4/11/2019.
| Premier Kiosk Global Supply Co., aka PKGS, aka Global Kiosk, No. 5, 18th Floor, Plaza 138, Hotel Maya, Jalan Ampang, Kuala Lumpur, Malaysia 50450 | 84 FR [INSERT FEDERAL REGISTER PAGE NUMBER] 4/11/2019.
* * * * * *
UNITED ARAB EMIRATES | * * * * *
| EBN AUF Trading, P.O. Box 330073, Ras Al Khaimah, United Arab Emirates; and P.O. Box 42558, Ras Al Khaimah, United Arab Emirates | 84 FR [INSERT FEDERAL REGISTER PAGE NUMBER] 4/11/2019.
| Empire of East General Trading, M110, Al Khaleej Center, Bur Dubai, Dubai, UAE; and 112 Al-Ain Center, Al Mankhool Road, Bur Dubai, Dubai, UAE 34608; and 112 Al-Ain Center, P.O. Box 112100, Bur Dubai, Dubai, UAE 34608; and Office #1904, Al Mousa Tower 2, Sheikh Zayed Road, Dubai, UAE | 84 FR [INSERT FEDERAL REGISTER PAGE NUMBER] 4/11/2019.
* * * * * * *
| Kassem IT, Techno Park Office 135, JAFZA Building 22, P.O. Box 98166, Jebel Ali Free Zone, Dubai, UAE; and Warehouse UD2, Between Roundabout 7,8, Jebel Ali Free Zone, Dubai, UAE; and Roundabout 8 WA—06, Jebel Ali Free Zone, Dubai, UAE | 84 FR [INSERT FEDERAL REGISTER PAGE NUMBER] 4/11/2019.
* * * * * * *
| Pacific Ocean Star General Trading, aka Pacific Ocean Marine Services, Floor 12A/Office 04, Damac Executive Bay Tower B, Al A'amal St., Business Bay, P.O. Box 187128, Dubai, UAE; and Office 707, Damac Executive Bay Tower B, Al A'amal St., Business Bay, P.O. Box 187128, Dubai, UAE | 84 FR [INSERT FEDERAL REGISTER PAGE NUMBER] 4/11/2019.
* * * * * * *

Dated: April 5, 2019.
Nazak Nikakhtar,
Assistant Secretary for Industry & Analysis, Performing the Non-Exclusive Duties of the Under Secretary for Industry and Security.

[FR Doc. 2019-07211 Filed 4-10-19; 8:45 am]

BILLING CODE 3510-33-P